CONSUMER PRODUCT SAFETY COMMISSION

[Docket Number CPSC-2024-0002]

Privacy Act of 1974; System of Records

AGENCY: Consumer Product Safety Commission.

ACTION: Notice of a modified system of records.

SUMMARY: Pursuant to the Privacy Act of 1974, the Consumer Product Safety Commission (CPSC) is proposing changes to a system of records notice (SORN). CPSC is proposing to amend CPSC-33, International Trade Data System Risk Assessment Methodology System (ITDS/RAM). The amendment will expand the categories of individuals covered by, and the records contained in the system.

DATES: Comments must be received no later than February 16, 2024. The modified system of records described here will become effective February 16, 2024 unless CPSC receives comments contrary to the proposed amendments.

ADDRESSES: Comments, identified by Docket No. CPSC-2024-0002, can be submitted electronically or in writing:

Electronic Submissions: Submit electronic comments to the Federal eRulemaking Portal at: http://www.regulations.gov. Follow the instructions for submitting comments. CPSC does not accept comments submitted by electronic mail (email), except through www.regulations.gov. CPSC encourages you to submit electronic comments by using the Federal eRulemaking Portal, described above.

Written Submissions: Submit written submissions by Mail/Hand delivery/Courier (for paper, disk, or CD-ROM submissions) to the Office of the General Counsel, Division of the Secretariat, Consumer Product Safety Commission, 4330 East West Highway, Bethesda, MD 20814; telephone: 800-638-2772.

Instructions: All submissions received must include the agency name and docket number for this rulemaking. All comments received will be posted without change to: http://www.regulations.gov, including any personal information provided. Do not submit electronically any confidential business information, trade secret information, or other sensitive or protected information that you do not want to be available to the public. If you wish to provide such information, please submit it in writing.

Docket: For access to the docket to read background documents or comments received, go to http://www.regulations.gov and insert the docket number, CPSC-2024-0002, into the “Search” box, and follow the prompts.

FOR FURTHER INFORMATION CONTACT: Abioye Mosheim Oyewole, Assistant General Counsel, Office of the General Counsel, Division of Information Access, Consumer Product Safety Commission, 4330 East West Highway, Bethesda MD 20814; 301-504-7454.

SUPPLEMENTARY INFORMATION: CPSC is proposing to amend the categories of individuals and records, as well as the retention period and contact information for maintenance of the system.

For the public's convenience, CPSC's amended system of records is published in full below. The proposed changes to CPSC-33 are italicized.

Authority: Sec. 222 Pub. L. 110-314, 15 U.S.C. 2066(a), the Consumer Product Safety Act.

SYSTEM NAME AND NUMBER:

CPSC-33, International Trade Data System Risk Assessment Methodology System (ITDS/RAM).

SECURITY CLASSIFICATION:

Not classified.

SYSTEM LOCATION:

Consumer Product Safety Commission, 4330 East West Highway, Bethesda, MD 20814.

SYSTEM MANAGER(S):

Director, Office of Import Surveillance, Consumer Product Safety Commission, 4330 East West Highway, Bethesda, MD 20814.

PURPOSE(S) OF THE SYSTEM:

The CPSC uses the ITDS/RAM to monitor and request examination for import shipments that are potentially in violation of safety standards enforced by the Commission or potentially defective as a part of a product group that has been designated by the Commission as having properties that are hazardous. Personally identifiable information (PII) could be used for monitoring and requesting exams, but only between government agencies (CPSC and U.S. Customs and Border Protection (CBP)).

CATEGORIES OF INDIVIDUALS COVERED BY THE SYSTEM:

Individuals and businesses that import materials in the United States. Information on individuals is stored only when they register as the entity in the transaction; usually, this is a business entity with an associated importer identification number and business address.

CATEGORIES OF RECORDS IN THE SYSTEM:

1. The system contains names, Social Security numbers, and addresses associated with individuals and businesses importing materials into the United States. For individuals and small businesses where an individual provides personal information, their name and address are maintained.

2. Importation transactions as reported by U.S. Customs and Border Protection (CBP) for all product areas under jurisdiction at entry summary filing and for product areas of specific concern for hazard monitoring and enforcement programs at entry filing (Cargo).

RECORD SOURCE CATEGORIES:

Personally identifiable information (PII) is provided and updated on a periodic basis by CBP.

ROUTINE USES OF RECORDS MAINTAINED IN THE SYSTEM, INCLUDING CATEGORIES OF USERS AND PURPOSES OF SUCH USES:

In addition to those disclosures generally permitted under 5 U.S.C. 552a(b) of the Privacy Act, these records or information contained therein may specifically be disclosed outside CPSC as a routine use pursuant to 5 U.S.C. 552a(b)(3) as follows:

1. To the U.S. Department of Justice when related to litigation or anticipated litigation. To the appropriate Federal enforcement agency/agencies when there is an indication of a potential violation of a statute or regulation or a predetermined hazard in connection with an importation.

2. Disclosure may be made to appropriate agencies, entities, and persons when (1) the CPSC suspects or has confirmed that the security or confidentiality of information in the system of records has been compromised; (2) the CPSC has determined that as a result of suspected or confirmed compromise, there is a risk of harm to the security or integrity of this system, or other systems or programs (whether maintained by the CPSC or another agency or entity), that rely upon the compromised information; and (3) the disclosure made to such agencies, entities, and persons is reasonably necessary to assist in connection with the CPSC's efforts to respond to the suspected or confirmed compromise and prevent, minimize, or remedy such harm.

POLICIES AND PRACTICES FOR STORAGE OF RECORDS:

The information in the ITDS/RAM includes electronic records, files, and data that are stored in the Commission's computer network databases.

POLICIES AND PRACTICES FOR RETRIEVAL OF RECORDS:

Computer records are indexed by, and retrievable by, importer identification number (which may include Social Security number), names, and addresses, and may permit retrieval by names elsewhere in documents.

POLICIES AND PRACTICES FOR RETENTION AND DISPOSAL OF RECORDS:

Records are currently retained indefinitely pending schedule approval by the National Archives and Records Administration.

ADMINISTRATIVE, TECHNICAL, AND PHYSICAL SAFEGUARDS:

Access to electronic files, which are housed in the Commission's computer network databases, is restricted to authorized supervisors and staff and to designated Information Technology (IT) staff who maintain the Commission's computer network. CPSC project contractors may be granted access with appropriate clearance and only in support of the performance of the system. The CPSC computer network databases are protected by security protocols, which include controlled access, passwords, and other security features. Information resident on the database servers is backed-up routinely onto a hard disk array and computer-based media. Back-up data is stored on-site and at a secured, off-site location. Hard-copy records are maintained in secured file cabinets.

RECORD ACCESS PROCEDURES:

Assistant General Counsel, Office of the General Counsel, Division of Information Access, Consumer Product Safety Commission, 4330 East West Highway, Bethesda, MD 20814.

CONTESTING RECORD PROCEDURES:

Assistant General Counsel, Office of the General Counsel, Division of Information Access, Consumer Product Safety Commission, 4330 East West Highway, Bethesda, MD 20814.

NOTIFICATION PROCEDURES:

Assistant General Counsel, Office of the General Counsel, Division of Information Access, Consumer Product Safety Commission, 4330 East West Highway, Bethesda, MD 20814.

EXEMPTIONS PROMULGATED FOR THE SYSTEM:

None.

HISTORY:

CPSC-33, International Trade Data System Risk Assessment Methodology System (ITDS/RAM) (last published at 77 FR 29596, FR Doc. 2012-12060 (May 18, 2012).

Alberta Mills,
Secretary, U.S. Consumer Product Safety Commission.

[FR Doc. 2024-00644 Filed 1-16-24; 8:45 am]

BILLING CODE 6355-01-P